FEDERAL COMMUNICATIONS COMMISSION

47 CFR Part 73

[DA 06-955; MB Docket No. 05-292; RM-11281]

Radio Broadcasting Services; Churchville and Keswick, VA and Marlinton, WV

AGENCY: Federal Communications Commission.

ACTION: Final rule.

SUMMARY: In response to a Notice of Proposed Rule Making, this Report and Order allots Channel 292A to Marlinton, West Virginia. In addition it substitutes Channel 291A for Channel 292B1, Station WBOP(FM), Churchville, Virginia, reallots Channel 291A to Keswick, Virginia, and modifies Station WBOP(FM)'s license accordingly. The coordinates for Channel 292A at Marlinton, West Virginia, are 38-13-24 NL and 80-05-41 WL. The coordinates for Channel 291A at Keswick, Virginia, are 38-01-48 NL and 78-22-55 WL, with a site restriction of 2.1 kilometers (1.3 miles) northwest of Keswick.

DATES: Effective June 19, 2006.

ADDRESSES: Federal Communications Commission; 445 12th Street, SW., Washington, DC 20554.

FOR FURTHER INFORMATION CONTACT: R. Barthen Gorman, Media Bureau, (202) 418-2180.

SUPPLEMENTARY INFORMATION: This is a synopsis of the Commission's Report and Order, MB Docket No. 05-292, adopted May 3, 2006 and released May 5, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

For reasons discussed in the preamble, the Federal Communications Commission amends 47 CFR part 73 as follows:

PART 73—RADIO BROADCAST SERVICES

1. The authority citation for part 73 reads as follows:

Authority: 47 U.S.C. 154, 303, 334, 336.

§ 73.202 [Amended]

2. Section 73.202(b), the Table of FM Allotments under Virginia, is amended by removing Churchville, Channel 292B1, and adding Keswick, Channel 291A.

3. Section 73.202(b), the Table of FM Allotments under West Virginia, is amended by adding Marlinton, Channel 292A.

Federal Communications Commission.
John A. Karousos,
Assistant Chief, Audio Division, Media Bureau.

[FR Doc. E6-8160 Filed 5-30-06; 8:45 am]

BILLING CODE 6712-01-P